DEPARTMENT OF COMMERCE

Foreign-Trade Zones Board

[B-50-2019]

Foreign-Trade Zone (FTZ) 154—Baton Rouge, Louisiana; Notification of Proposed Production Activity; Syngenta Crop Protection, Inc. (Herbicides, Fungicides and Insecticides); Baton Rouge, Louisiana

Syngenta Crop Protection, Inc., (Syngenta) submitted a notification of proposed production activity to the FTZ Board for its facilities in Baton Rouge, Louisiana. The notification conforming to the requirements of the regulations of the FTZ Board (15 CFR 400.22) was received on August 2, 2019.

Syngenta already has authority to produce crop protection products including herbicides, fungicides, and insecticides within FTZ 154. The current request would add finished products and foreign status materials/components to the scope of authority. Pursuant to 15 CFR 400.14(b), additional FTZ authority would be limited to the specific foreign-status materials/components and specific finished products described in the submitted notification (as described below) and subsequently authorized by the FTZ Board.

Production under FTZ procedures could exempt Syngenta from customs duty payments on the foreign-status materials/components used in export production. On its domestic sales, for the foreign-status materials/components noted below and in the existing scope of authority, Syngenta would be able to choose the duty rates during customs entry procedures that apply to Academy™; Actara®; Adage™ 60 FS Semillero; Adage™ ST; Adage™, Dynasty®, Mertect® and, polymer soy lactic acid concentrate; Aframe™; Aframe™ Plus; Agri-Flex® 186 SC; Allegro® Quadris® Co-pack; Amistar® Full; Amistar® Gold; Apron® Advance; ApronMaxx® RFC; ApronMaxx® RTA; ApronMaxx® RTA + Moly; Avaris®; Avaris® BL; Avicta® Complete Beans 500; Avicta® Complete Corn 250; Avicta® Complete Corn 250 Vibrance® Complete Beans; Avicta® Duo 250 Corn; Avicta® Duo COT202; Axial® and Axial® BIA; Axial® Bold; Axial® Star; Axial® XL; Axial® Xtreme; Azoxy Millbase MUP; Azoxystrobin 96% Technical 760; Bankit® Gold; Celest® Quattro; Chairman™; Clariva® Elite Beans; Compendium™; Cruiser® 5 FS; Cruiser® 60 FS; Cruiser® 60 FS Semillero; Cruiser® 600 FS (color and colorless); Cruisermaxx®; Cruisermaxx® Beans; Cruisermaxx® Cereals; Cruisermaxx® Potato; Cruisermaxx® Potato Extreme; Cruisermaxx® Potatoes 420 FS; Cruisermaxx® Vibrance® Beans; Cruisermaxx® Vibrance® Pulses; Cruiser® Semillero; Cruiser® Vibrance® Quattro; Cruiser® White; Cruiser® White 200; Cruisermaxx™; Cruisermaxx® Rice; Cruisermaxx® Vibrance® (colored and uncolored); Cruisermaxx® Vibrance® Cereals; Cruisermaxx® Vibrance® Potato; Cyantraniliprole; DividendExtreme®, Vibrance®, and Maxim® CB; Durivo®; Dynasty® 10FS Semillero; Dynasty® 125 FS; Dynasty®; DynastyCST®; DynastyCST® Semillero; Eforia; Elatus® ARC; Endigo®; Equity® VIP; First Defense SBR Custom Blend; Fludioxinil Technical; Fortenza®; Fortenza® 600 FS; Fortenza® Duo 48 FS; Fortenza® Duo 480 FS; Fortenza® Semillero; Funobis; Gazare; Graduate A+®; Helix® Vibrance®; Influx® Quattro; Instrata®; Lanxess AzoTech®; Lanxess Sporgard WB®; Lirum 78 SC; Maxim® 025 FS; Maxim® 4 FS; Maxim® D; Maxim® Quattro; Maxim® Quattro Semillero; Maxim® SX; Maxim® XL; Medallion™; Medallion® SC; Medallion® TL; Medallion® Turf; Minecto® Pro; Miravis® Neo; Miravis® Prime; Optigard® Flex Liquid; Optigard® TL, Platinum® 2 SC; Platinum™; Plentrix®; Quadris®; Quadris® 50 WG; Quadris® Top; Quilt®; Quilt® 200 SE; Quilt Xcel®; Scholar®; Seed Shield® Beans; Seed Shield® Cereals; Seed Shield® Cotton; Seed Shield® MAX Beans; Seed Shield® MAX Cereals; Solvigo™; Stadium™; Suren 60 Semillero; Tetraban®; Thiaba®; Thiamethoxam 240 SC MUP; Thiamethoxam Technical; Traxos®; Trivapro®; Trondus; Uniform®; Vibrance® Beans; Vibrance® Cinco; Vibrance® CST; Vibrance®Flexi; Vibrance® Maxx; Vibrance® Quattro; Vibrance® Trio; Videnti®; VoliamFlexi®; VoliamTargo®; Warden® Cereals 360; Warden® Cereals WR II; Warden® CX; Warden® RTA; pesticide samples; and, Demp Malonamid Tech (duty rate ranges from 5% to 6.5%). Syngenta would be able to avoid duty on foreign-status components which become scrap/waste. Customs duties also could possibly be deferred or reduced on foreign-status production equipment.

The materials/components sourced from abroad include cyantraniliprole, fludioxonil, azoxystrobin, and pinoxaden (duty rate 6.5%).

Public comment is invited from interested parties. Submissions shall be addressed to the Board's Executive Secretary and sent to: ftz@trade.gov. The closing period for their receipt is September 23, 2019.

A copy of the notification will be available for public inspection in the “Reading Room” section of the Board's website, which is accessible via www.trade.gov/ftz.

For further information, contact Christopher Wedderburn at Chris.Wedderburn@trade.gov or (202) 482-1963.

Dated: August 7, 2019.
Elizabeth Whiteman,
Acting Executive Secretary.

[FR Doc. 2019-17314 Filed 8-12-19; 8:45 am]

BILLING CODE 3510-DS-P